DEPARTMENT OF JUSTICE

Notice of Lodging of Proposed Consent Decree Under the Oil Pollution Act

On June 28, 2017, the Department of Justice lodged a proposed Consent Decree (“Consent Decree”) with the United States District Court for the District of Puerto Rico in the lawsuit entitled United States and Commonwealth of Puerto Rico v. Suez Shipping North America LLC and Hoegh LNG Fleet Management AS, Civil Action No. 3:17-cv-01741.

In a Complaint, the United States, on behalf of the Department of Commerce, National Oceanic and Atmospheric Association (“NOAA”), and the Commonwealth of Puerto Rico, on behalf of the Puerto Rico Department of Natural and Environmental Resources (“DNER”), seek to recover damages for the injury to, destruction of, loss of, or loss of use of natural resources under the Oil Pollution Act, 33 U.S.C. 2701, et seq. The Complaint alleges that on December 15, 2009, Suez Shipping North America LLC and Hoegh LNG Fleet Management AS (the “Defendants”), caused damage to a coral reef habitat in the Caribbean Sea on the south shore of Puerto Rico near Guaynilla due to the grounding of the LNGC Matthew, a liquefied natural gas tanker owned/operated by them. The proposed Consent Decree in this case requires that Defendants pay a total of $1,900,000 for the damage, which includes $1,708,000 to restore injured coral reefs in the area, and $182,000 in reimbursement of NOAA costs and $10,000 in reimbursement of DNER costs in assessing the damage.

The publication of this notice opens a period for public comment on the proposed Consent Decree. Comments should be addressed to the Assistant Attorney General, Environment and Natural Resources Division, and should refer to United States and Commonwealth of Puerto Rico v. Suez Shipping North America LLC and Hoegh LNG Fleet Management AS, D.J. Ref. No. 90-5-1-1-11554. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $6.00 (25 cents per page reproduction cost), payable to the United States Treasury.

Robert E. Maher, Jr.,
Assistant Chief, Environmental Enforcement Section, Environment & Natural Resources Division.

[FR Doc. 2017-14020 Filed 7-3-17; 8:45 am]

BILLING CODE 4410-15-P